NATIONAL SCIENCE FOUNDATION

Advisory Panel for Anthropological and Geographic Sciences; Notice of Meeting

In accordance with the Federal Advisory Committee Act (Pub. L. 92-463, as amended), the National Science Foundation (NSF) announces the following seven meetings of the Advisory Panel for Anthropological and Geographic Sciences (#1757);

1. Date/Time: April 9-10, 2000 8:30 a.m.-6:00 p.m.

Place: Suite #1 Philadelphia Marriott 1201 Market Street, Philadelphia, PA 19107.

Contact Person: John Yellen, Program Director of Archaeology and Archaeometry Program, National Science Foundation, 4201 Wilson Boulevard, Suite 995, Arlington, VA 22230. Telephone: (703) 306-1759.

Agenda: To review and evaluate Archaeology proposals as part of the selection process for awards.

2. Date/Time: April 3-4, 2000; 8:30 a.m.-5:00 p.m.

Place: National Science Foundation, 4201 Wilson Boulevard, Room 390, Arlington, VA.

Contact Person: Mark Weiss, Program Director for Physical Anthropology, National Science Foundation, 4201 Wilson Boulevard, Suite 995, Arlington, VA 22230. Telephone: (703) 306-1758.

Agenda: To review and evaluate Physical Anthropology proposals as part of the selection process for awards.

3. Date/Time: April 20-21, 2000; 8:30 a.m.-5:00 p.m.

Place: National Science Foundation, 4201 Wilson Boulevard, Room 370, Arlington, VA.

Contact Person: Victoria Lockwood, Program Director for Cultural Anthropology, National Science Foundation, 4201 Wilson Boulevard, Suite 995, Arlington, VA 22230, Telephone: (703) 306-1758.

Agenda: To review and evaluate Cultural Anthropology proposals as part of the selection process for awards.

4. Date/Time: April 17-18, 2000; 8:30 a.m.-5:00 p.m.

Place: National Science Foundation, 4201 Wilson Boulevard, Room 370, Arlington, VA.

Contact Person: Victoria Lockwood, Program Director for Cultural Anthropology, National Science Foundation, 4201 Wilson Boulevard, Suite 995, Arlington, VA 22230. Telephone: (703) 306-1758.

Agenda: To review and evaluate Cultural Anthropology dissertation proposals as part of the selection process for awards.

5. Date/Time: April 8-9, 2000 8:30 a.m.-5:00 p.m.

Place: Double Tree Hotel 1000 Penn Avenue Pittsburgh, PA 15222-3873.

Contact Person: Nina Lam, Program Director for Geography and Regional Science, National Science Foundation, 4201 Wilson Boulevard, Suite 995, Arlington, VA 22230. Telephone: (703) 306-1758.

Agenda: To review and evaluate Geography and Regional Science dissertation proposals as part of the selection process for awards.

6. Date/Time: April 27-28, 2000; 8:30 a.m.-5:00 p.m.

Place: National Science Foundation, 4201 Wilson Boulevard, Room 920, Arlington, VA.

Contact Person: Nina Lam, Program Director for Geography and Regional Science, National Science Foundation, 4201 Wilson Boulevard, Suite 995, Arlington, VA 22230. Telephone: (703) 306-1758.

Agenda: To review and evaluate Geography and Regional Science proposals as part of the selection process for awards.

7. Date & Time: April 6, 2000; 8:30 a.m.-6:00 p.m.

Place: Suite #1 Philadelphia Marriott 1201 Market Street, Philadelphia, PA 19107.

Contact Person: John Yellen, Program Director for Archaeology and Archaeometry Program, National Science Foundation, 4201 Wilson Blvd, Suite 995, Arlington, VA 22230. Telephone: (703) 306-1759.

Agenda: To review and evaluate Archaeometry proposals as part of the selection process for awards.

Type of Meetings: Closed.

Purpose of Meeting: To provide advice and recommendations concerning support for research proposals submitted to the NSF for financial support.

Reason for Closing: The proposals being reviewed include information of a proprietary or confidential nature, including technical information; financial data, such as salaries; and personal information concerning individuals associated with the proposals. These matters are exempt under 5 U.S.C. 552b(c)(4) and (6) of the Government in the Sunshine Act.

Dated: February 23, 2000.
Karen J. York,
Committee Management Officer.

[FR Doc. 00-4702 Filed 2-28-00; 8:45 am]

BILLING CODE 7555-01-M